DEPARTMENT OF COMMERCE

National Oceanic and Atmospheric Administration

[RTID 0648-XA216]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its Fishery Data Collection and Research Committee (FDCRC), Pelagic and International Standing Committee, Executive and Budget Standing Committee, and 182nd Council meetings to take actions on fishery management issues in the Western Pacific Region.

DATES: The meetings will be held June 22 through 25, 2020. For specific times and agendas, see SUPPLEMENTARY INFORMATION.

ADDRESSES: The meetings will be held by web conference via WebEx. Instructions for connecting to the web conference and providing oral public comments will be posted on the Council website at www.wpcouncil.org. For assistance with the web conference connection, contact the Council office at (808) 522-8220.

The following venues will be the host sites for the meetings: Hilton Guam Resort & Spa, Chuchuko Room, 202 Hilton Rd., Tumon Bay, Guam; Hyatt Regency Saipan, Royal Palm Ave., Micro Beach Rd., Saipan, Commonwealth of the Northern Mariana Islands (CNMI); and Department of Port Administration, Airport Conference Room, Pago Pago Int'l Airport, Tafuna Village, American Samoa.

FOR FURTHER INFORMATION CONTACT: Kitty M. Simonds, Executive Director, Western Pacific Fishery Management Council; phone: (808) 522-8220.

SUPPLEMENTARY INFORMATION: All times shown are in Hawaii Standard Time. The FDCRC meeting will be held between 11 a.m. to 1 p.m. on June 22, 2020. The Pelagic and International Standing Committee will be held between 1 p.m. and 3 p.m. on June 22, 2020. The Executive and Budget Standing Committee meeting will be held between 3 p.m. and 5 p.m. on June 22, 2020. The 182nd Council meeting will be held between 11 a.m. and 5 p.m. on June 23 to 25, 2020.

Please note that the evolving public health situation regarding COVID-19 may affect the conduct of the June Council and its associated meetings. At the time this notice was submitted for publication, the Council anticipated convening the meeting by web conference with host site locations in Guam, CNMI and American Samoa. Council staff will monitor COVID-19 developments and will determine the extent to which in-person public participation at host sites will be allowable consistent with applicable local or federal guidelines. If public participation will be limited to web conference only or on a first-come-first-serve basis consistent with applicable guidelines, the Council will post notice on its website at www.wpcouncil.org.

Agenda items noted as “Final Action” refer to actions that result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 182nd Council meeting will be available at www.wpcouncil.org. Written public comments on final action items at the 182nd Council meeting should be received at the Council office by 5p.m. HST, June 19, 2020, and should be sent to Kitty M. Simonds, Executive Director; Western Pacific Fishery Management Council, 1164 Bishop Street, Suite 1400, Honolulu, HI 96813, phone: (808) 522-8220 or fax: (808) 522-8226; or email: info.wpcouncil@noaa.gov. Written public comments on all other agenda items may be submitted for the record by email throughout the duration of the meeting. Instructions for providing oral public comments during the meeting will be posted on the Council website. This meeting will be recorded for the purposes of generating the minutes of the meeting.

Agenda for the Fishery Data Collection and Research Committee

Monday, June 22, 2020, 11 a.m. to 1 p.m.

1. Welcome Remarks and Introductions

2. Update on Previous FDCRC Recommendations

3. Regulations for Mandatory License and Reporting

A. Guam

B. CNMI

4. Budgets to Support Fishery Data Collection

A. Interjurisdictional Fisheries Act Funding

B. Western Pacific Fishery Information Network and Territory Science Initiative Funding

5. Data Collection Improvement Updates

A. Implementation of the Electronic Reporting Suite

B. Updates on the Data Collection Outreach Activities

6. Discussion on Addressing the Pacific Islands Fisheries Monitoring and Assessment Planning Summit Recommendations

A. Moving Towards Electronic Self-Reporting

B. Moving Shore-Based Creel to Marine Recreational Information Program

C. Data Governance for the Electronic Self-Reporting System

7. Report on FDCRC-Technical Committee

8. Public Comment

9. Discussions and Recommendations

Agenda for the Pelagic and International Standing Committee

Monday, June 22, 2020, 1 p.m. to 3 p.m.

1. Report on Impacts of COVID-19 on Fisheries

2. Status of Past Council Actions and Amendments

3. Stock Status Determination for Oceanic Whitetip Shark and Striped Marlin

4. Summary of Available Information on Sea Turtle Interactions in Foreign Pelagic Fisheries

5. Considerations for Developing Reasonable and Prudent Measures (RPMs) and/or Reasonable and Prudent Alternatives (RPAs) for the Deep-set and American Samoa Longline Fisheries

6. 2021 U.S. and Territorial Longline Bigeye Specifications (Final Action)

7. Mandatory Electronic Reporting for the Hawaii Longline Fishery (Initial Action)

8. International Fisheries

A. Western and Central Pacific Fisheries Commission (WCPFC) Permanent Advisory Committee Report

B. Preparation for WCPFC Science Committee

C. Pre-Assessment Workshop Outcomes for Yellowfin and Bigeye

D. Workshop on Area-Based Management of Blue Water Fisheries

9. Advisory Group Report and Recommendations

A. Advisory Panel Report

B. Pelagic Plan Team Report

C. Scientific and Statistical Committee Report

10. Other Issues

11. Public Comment

12. Discussion and Recommendations

Agenda for the Executive and Budget Standing Committee

Monday, June 22, 2020, 3 p.m. to 5 p.m.

1. Financial Reports

2. Administrative Reports

3. COVID-19 Impacts

A. Regional Impacts

B. Council Operations and Actions

4. Freedom of Information Act, Office of Inspector General and Congressional Requests

5. Council Coordination Committee Meeting

A. Report of the May Meeting

B. Planning for September Meeting

6. Council Family Changes

7. Marine Conservation Plans

8. Meetings and Workshops

9. Other Issues

10. Public Comment

11. Discussion and Recommendations

Agenda for the 182nd Council Meeting

Tuesday, June 23, 2020, 11 a.m. to 5 p.m.

1. Welcome and Introductions

2. Approval of the 182nd Agenda

3. Approval of the 181st Meeting Minutes

4. Executive Director's Report

5. Agency Reports

A. NOAA Office of General Counsel, Pacific Islands Section

B. National Marine Fisheries Service

1. Pacific Islands Regional Office

2. Pacific Islands Fisheries Science Center

C. U.S. State Department

D. U.S. Fish and Wildlife Service

E. Enforcement

1. U.S. Coast Guard

2. NOAA Office of Law Enforcement

3. NOAA Office of General Counsel, Enforcement Section

F. Public Comment

G. Council Discussion and Action

6. Regional Reports on COVID19 Impacts and Activities

A. American Samoa

B. Guam

C. CNMI

D. Hawaii

E. Pelagic and International Fisheries

7. Program Planning and Research

A. National Legislative Report

B. 2019 Annual Stock Assessment and Fishery Evaluation Reports

C. Standardized Bycatch Reporting Methodology

D. Electronic Technologies Implementation Plan

E. President Executive Order on Seafood Competitiveness

F. Stock Definitions in the Bottomfish and Pelagic Fisheries

G. Advisory Group Reports and Recommendations

1. Advisory Panel Report

2. Archipelagic Plan Team Report

3. Pelagic Plan Team Report

4. FDCRC Report

5. Scientific and Statistical Committee Report

H. Public Comment

I. Council Discussion and Action

8. Community Engagement and Public Relations

Wednesday, June 24, 2020, 11 a.m. to 5 p.m.

9. American Samoa Archipelago

A. Motu Lipoti

B. Department of Marine and Wildlife Resources Report (Legislation and Enforcement)

C. American Samoa Bottomfish Fishery

1. Status of the Interim Measure

2. Status of the Annual Catch Limit Specification

3. Development of the Bottomfish Rebuilding Plan

D. American Samoa Community Activities

E. Advisory Group Report and Recommendations

1. Advisory Panel Report

2. Archipelagic Plan Team Report

3. Scientific and Statistical Committee Report

F. Public Comment

G. Council Discussion and Action

10. Mariana Archipelago

A. Guam

1. Isla Informe

2. Department of Agriculture/Division of Aquatic and Wildlife Resources Report (Legislation and Enforcement)

3. Review of Guam Marine Conservation Plan

4. Guam Community Activities

B. CNMI

1. Arongol Falú

2. Department of Land and Natural Resources/Division of Fish and Wildlife Report

3. CNMI Community Activities

C. Advisory Group Reports and Recommendations

1. Advisory Panel Report

2. Scientific and Statistical Committee Report

D. Public Comment

E. Council Discussion and Action

11. Hawai'i Archipelago and Pacific Remote Island Areas (PRIA)

A. Moku Pepa

B. Department of Land and Natural Resources/Division of Aquatic Resources Report (Legislation, Enforcement)

C. Update on Managing Hawaii's Small-boat Fishery

D. Main Hawaiian Islands (MHI) Uku Fishery

1. Western Pacific Stock Assessment Review Report on the Uku Benchmark Stock Assessment

2. Peer-Reviewed Benchmark Stock Assessment of Uku in MHI

E. Review of PRIA Marine Conservation Plan

F. Hawaii Community Activities

G. Advisory Group Report and Recommendations

1. Advisory Panel Report

2. Pelagic Plan Team Report

3. Scientific and Statistical Committee Report

H. Public Comment

I. Council Discussion and Action

Wednesday, June 24, 2020, 4 p.m. to 5 p.m.

Public Comment on Non-Agenda Items

Thursday, June 25, 2020, 11 a.m. to 5 p.m.

12. Protected Species

A. Endangered Species Act (ESA) and Marine Mammal Protection Act Updates

1. Status of ESA Consultations

B. Assessing Population Level Impacts of Marine Turtle Interactions in the American Samoa Longline Fishery

C. Summary of Available Information on Sea Turtle Interactions in Foreign Pelagic Fisheries

D. Advisory Group Report and Recommendations

1. Advisory Panel Report

2. Pelagic Plan Team Report

3. Scientific & Statistical Committee Report

E. Public Comment

F. Council Discussion and Action

13. Pelagic & International Fisheries

A. Status of Council Actions and Amendments

1. Amendment 8: International Measures Implemented into the Pelagic Fishery Ecosystem Plan and Western and Central Pacific Ocean Striped Marlin Catch Limits

2. Amendment 9: Multi-year Specifications for U.S. and Territorial Bigeye Longline Allocation Limits

3. Amendment 10: Shallow-set Trip Limits for Sea Turtle Interactions

B. Mandatory Electronic Reporting for the Hawaii Longline Fishery (Initial Action Item)

C. 2021 U.S. and Territorial Longline Bigeye Specifications (Final Action Item)

D. Stock Status Determination for Oceanic Whitetip Shark and Striped Marlin

E. Considerations for Developing RPMs and/or RPAs for the Deep-set and American Samoa Longline Fisheries

F. Pre-Assessment Workshop Outcomes for Yellowfin and Bigeye Tunas

G. International Fisheries

1. WCPFC Permanent Advisory Committee Report

2. Workshop on Area-Based Management of Blue Water Fisheries

H. Advisory Group Report and Recommendations

1. Advisory Panel Report

2. Pelagic Plan Team Report

3. Scientific and Statistical Committee Report

I. Standing Committee Report and Recommendations

J. Public Comment

K. Council Discussion and Action

14. Administrative Matters

A. Financial Reports

1. Current Grants

B. Administrative Reports

C. Council Coordination Committee Meetings

D. Council Family Changes

E. Meetings and Workshops

F. Standing Committee Report and Recommendations

G. Public Comment

H. Council Discussion and Action

Non-emergency issues not contained in this agenda may come before the Council for discussion and formal Council action during its 182nd meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: June 1, 2020.
Tracey L. Thompson,
Acting Deputy Director, Office of Sustainable Fisheries, National Marine Fisheries Service.

[FR Doc. 2020-12072 Filed 6-3-20; 8:45 am]

BILLING CODE 3510-22-P